DEPARTMENT OF HOUSING AND URBAN DEVELOPMENT

[Docket No. FR-7109-N-01; OMB Control No.: 2577-0169]

60-Day Notice of Proposed Information Collection: Housing Choice Voucher Program and Tribal HUD-VASH

AGENCY: Office of the Assistant Secretary for Public and Indian Housing, HUD.

ACTION: Notice.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: April 14, 2026.

ADDRESSES: Interested persons are invited to submit comments regarding this proposal. Written comments and recommendations for the proposed information collection can be sent within 60 days of publication of this notice to www.regulations.gov. Interested persons are also invited to submit comments regarding this proposal and comments should refer to the proposal by name and/or OMB Control Number and should be sent to: Eva Fulton, Program Analyst, Department of Housing and Urban Development, 451 Seventh Street SW, Room 3180, Washington, DC 20410.

FOR FURTHER INFORMATION CONTACT: Eva Fulton, Program Analyst, Department of Housing and Urban Development, 451 7th Street SW, Washington, DC 20410; email Eva Fulton at pih-prapubliccomments@hud.gov, telephone (202) 402-5847. This is not a toll-free number. HUD welcomes and is prepared to receive calls from individuals who are deaf or hard of hearing, as well as individuals with speech or communication disabilities. To learn more about how to make an accessible telephone call, please visit https://www.fcc.gov/consumers/guides/telecommunications-relay-service-trs.

Copies of available documents submitted to OMB may be obtained from Ms. Fulton.

SUPPLEMENTARY INFORMATION: This notice informs the public that HUD is seeking approval from OMB for the information collection described in Section A.

A. Overview of Information Collection

Title of Information Collection: Housing Choice Voucher (HCV) Program, Project-based Voucher (PBV) Program and Tribal HUD-VASH.

OMB Approval Number: 2577-0169.

Type of Request Revision of a currently approved collection.

Form Numbers: HUD-50164, HUD-52515, HUD-52517, HUD-52530A Part 1, HUD-52530A Part 2, HUD-52530B Part 1, HUD-52530B Part 2, HUD-52530C, HUD-52531A, HUD-52531B, HUD-52578B, HUD-52580, HUD-52580A, HUD-52641, HUD-52641A, HUD-52642, HUD-52646, HUD-52649, HUD-52665, HUD-52667, HUD-5980.

Description of the need for the information and proposed use: Public housing agencies (PHA) apply for funding to assist very low-income families to lease or purchase housing. PHAs maintain records on participant eligibility, unit acceptability, lease and housing assistance payments, and budget and payment documentation. PHAs may also project-base a portion of their vouchers or use their vouchers under the Homeownership Option. The Tribal HUD-VASH program provides rental assistance and supportive services to Native American veterans who are Homeless or At Risk of Homelessness living on or near a reservation or other Indian areas.

The Housing Choice Voucher (HCV) Program is the federal government's major program for assisting low-income families, the elderly, and individuals with disabilities to afford decent, safe, and sanitary housing in the private market. Since housing assistance is provided on behalf of the family or individual, participants are able to find their own housing, including single-family homes, townhouses and apartments. The participant may choose any housing that meets the requirements of the program. The Project-based Voucher (PBV) program is a component of the HCV program where the assistance is “attached to the structure,” which may be a multifamily building or a single-family property.

PHAs will prepare an application for funding which specifies the number of units requested as well as the PHA's objectives and plans for administering the HCV and PBV programs. The application is reviewed by HUD Headquarters and HUD Field Offices and ranked according to the PHA's administrative capability, the need for housing assistance and other factors specified in a notice of funding opportunity. The PHAs must establish a utility allowance schedule for all utilities and other services. Units must be inspected using HUD prescribed forms to determine if the units meet the housing quality standards (HQS) of the HCV program. Under certain circumstances, if authorized by the PHA, a family may use its voucher to purchase a modest home. Section 8(o) of the United States Housing Act of 1937 (USHA) (42 U.S.C. 1437), as amended by Section 545 of the Quality Housing and Work Responsibility Act of 1998 (QHWRA) and more recently by the Housing Opportunity Through Modernization Act of 2016 (Pub. L. 114-201, 130 Stat. 782) (HOTMA), authorized the merger of the Section 8 tenant-based programs (certificate and voucher programs) into a single market-driven program (entitled the HCV program). Section 8(y) of the USHA, as amended by Section 555 of QHWRA authorized the “homeownership option” under the HCV program.

Under the HCV program, the Department enters into an Annual Contributions Contract (ACC) with PHAs to assist very low-income families to lease or purchase safe, decent, and affordable housing. PHAs are required to maintain complete and accurate program and accounting records in accordance with HUD requirements; in a manner that permits a speedy and effective audit. PHAs must maintain records on eligibility (e.g., verification of income, disability status and citizenship); records of subsidized units (e.g., unit inspection reports, rent reasonableness documentation, tenant leases and housing assistance payments (HAP) contracts).

Section 8(o)(13) of the USHA allows PHAs to project-base a portion of their tenant-based vouchers. PHAs participating in the PBV program may: (1) enter into a housing assistance payments (HAP) contract with a private owner for existing housing projects; or (2) pursuant to the HOTMA Voucher Final Rule published on May 7, 2024 (89 FR 38224), have the option of entering into an agreement governing development activity for newly constructed or rehabilitated housing projects or rather proceeding directly to entering into a HAP contract with a private owner. PHAs may also now allow for development activity to occur after HAP contract execution, subject to execution of a rehabilitated housing rider. For PHA-owned units that are not owned by a separate legal entity from the PHA, the HOTMA Voucher Final Rule gives PHAs the option to execute a PHA-owned agreement certification, a PHA-owned certification, or a PHA-owned rehabilitation housing rider in lieu of executing an Agreement, a PBV HAP contract, or a rehabilitated housing rider, respectively.

The Tribal HUD-VA Supportive Housing (Tribal HUD-VASH) Program provides rental assistance and supportive services to Native American veterans who are homeless or at risk of homelessness in Indian country. Housing assistance under this program is made available by grants to Tribes and Tribally Designated Housing Entities (TDHEs) that are eligible to receive Indian Housing Block Grant (IHBG) funding under the Native American Housing Assistance and Self-Determination Act of 1996 (25 U.S.C. 4212) (NAHASDA). Tribes request Tenant-Based and/or Project-Based Rental Assistance by the number of bedrooms in a rental unit. Grants and renewal funds are awarded based on the number of rental units (Tenant-Based and Project-Based Rental Assistance) approved by HUD. Grants include an additional amount for administrative costs and eligible homeless veterans receive case management services through the Department of Veterans Affairs.

Changes to HUD Forms

Changes were made to the following HUD forms to comply with current laws, regulations, and executive orders, update definitions, fix typos and update the burden hour language: HUD-52517 Request for Tenancy Approval, HUD-52667 Utility Allowance Schedule, HUD 52641 HAP Contract, Tenant Based Assistance, HUD 52641A Tenancy Addendum, Tenant Based Assistance, HUD 52642 HAP Contract Manufactured Home Space Rental, Tenant Based Assistance, HUD-52646 Voucher, HCV Tenant Based Assistance, HUD-52649 Statement of Homeowner Obligations, HCV Homeownership, HUD-50164 Unexploded Ordnance, HUD-52531A and HUD-52531B Agreement to Enter into a Housing Assistance Payments Contract, HUD-52530A, Part 1 and Part 2 PBV HAP Contract for New Construction or Rehabilitation, HUD-52530B, Part 1 and Part 2 PBV HAP Contract for Existing, HUD-52530C PBV Tenancy Addendum, HUD-52578B PBV Statement of Family Responsibilities.

HUD-52517 Request for Tenancy Approval—Added a utility allowance flat fee option (24 CFR 982.517(b)), added a field for owner's email address.

HUD-52667 Utility Allowance Schedule—Added “applicable surcharges” (24 CFR 982.517(b)(2)(ii)).

HUD 52641 HAP Contract, Tenant Based Assistance—Added utility flat fee option (24 CFR 982.517(b)) and language to reflect that the PHA may waive the owner's responsibility for tenant-caused HQS deficiencies (24 CFR 982.404(a)(4)). Added an instruction to select one of two tenancy addendums, as appropriate, and added a second tenancy addendum to the HAP Contract to apply when a family has elected to use its tenant-based assistance to remain in the same project after termination or expiration without extension of the project's PBV contract. Aligned fair housing language with PBV forms.

HUD 52641A Tenancy Addendum, Tenant Based Assistance—Updated language to reflect that the PHA may waive the owner's responsibility for tenant-caused HQS deficiencies (24 CFR 982.404(a)(4)).

HUD 52642 HAP Contract Manufactured Home Space Rental, Tenant Based Assistance—Added an option for a single HAP payment made to the family (24 CFR 982.622(a)(1)), updated language to reflect that the PHA may waive the owner's responsibility for tenant-caused HQS deficiencies (24 CFR 982.404(a)(4)), aligned fair housing language with PBV forms.

HUD-52646 Voucher, HCV Tenant Based Assistance—Added language to state that the unit has passed HQS unless the PHA has approved the unit with only NLT deficiencies (24 CFR 982.406(e)) or passed an alternative inspection in the past 24 months (24 CFR 982.405(j)). Added language to comply with the new requirement that if the HAP contract terminates due to a failure to correct HQS deficiencies, the PHA must give the family at least 90 days following the termination of the HAP contract to lease a new unit (24 CFR 982.404(e)(1)).

HUD-52649 Statement of Homeowner Obligations, HCV Homeownership—Removed 2(I) that stated The family fails, willfully and persistently, to fulfill any welfare to work program obligations, as all references to the welfare to work program were removed under the HOTMA Voucher final rule.

HUD-50164 Unexploded Ordnance—Updated contact information for submitting a complaint.

HUD-52531A and HUD-52531B Agreement to Enter into a Housing Assistance Payments Contract—To comply with recent executive orders, conform with the Department of Labor's current regulatory language found at 29 CFR 5.5, and conform with changes made in the HOTMA Voucher Final Rule, including those changes to 24 CFR 983.3 (definitions), 983.51 (selection), 983.56 (environmental review), 983.57 (PHA-owned units), 983.153 (development requirements), 983.154 (development agreement), 983.155 (completion of work), 983.156 (acceptance of completed units), 983.251 (how participants are selected).

HUD-52530A, Part 1 and Part 2 PBV HAP Contract for New Construction or Rehabilitation—Edited to address typos, comply with recent executive orders, conform with 24 CFR 982.451 regarding payments, conform with 24 CFR 982.453 regarding owner breach, and conform with changes made in the HOTMA Voucher Final Rule, including those changes to 24 CFR 5.100 (definitions), 982.4 (definitions), 982.405 (inspection), 983.3 (definitions), 983.51 (selection), 983.54 (income-mixing), 983.57 (PHA-owned units), 983.59 (units excluded from program cap and project cap), 983.103 (inspecting units), 983.157 (development activity after HAP contract execution), 983.203 (HAP contract information), 983.204 (execution of HAP contract), 983.205 (term of HAP contract), 983.206 (contract termination), 983.207 (contract amendments to add or substitute units), 983.208 (condition of contract units), 983.210 (owner certification), 983.212 (substantial improvement), 983.251 (how participants are selected), 983.253 (leasing), 983.254 (vacancies), 983.255 (tenant screening), 983.259 (security deposit), 983.260 (overcrowded, under-occupied, and accessible units), 983.261 (family right to move), 983.302 (redetermination of rent to owner), 983.351 (payment for occupied unit).

HUD-52530B, Part 1 and Part 2 PBV HAP Contract for Existing Units—Edited to address typos, comply with recent executive orders, conform with 24 CFR 982.451 regarding payments, conform with 24 CFR 982.453 regarding owner breach, and conform with changes made in the HOTMA Voucher Final Rule, including those changes to 24 CFR 5.100 (definitions), 982.4 (definitions), 982.405 (inspection), 983.3 (definitions), 983.51 (selection), 983.54 (income-mixing), 983.57 (PHA-owned units), 983.59 (units excluded from program cap and project cap), 983.103 (inspecting units), 983.203 (HAP contract information), 983.204 (execution of HAP contract), 983.205 (term of HAP contract), 983.206 (contract termination), 983.208 (condition of contract units), 983.210 (owner certification), 983.212 (substantial improvement), 983.251 (how participants are selected), 983.253 (leasing), 983.254 (vacancies), 983.255 (tenant screening), 983.259 (security deposit), 983.260 (overcrowded, under-occupied, and accessible units), 983.261 (family right to move), 983.302 (redetermination of rent to owner), 983.351 (payment for occupied unit).

HUD-52530C PBV Tenancy Addendum—Edited to comply with recent executive orders and address typos and conform with changes made in the HOTMA Voucher Final Rule, including those changes to 24 CFR 5.100 (definitions), 982.4 (definitions), 983.3 (definitions), 983.157 (development activity after HAP contract execution), 983.206 (contract termination), 983.208 (condition of contract units), 983.212 (substantial improvement), 983.257 (eviction), 983.259 (security deposit), 983.261 (family right to move).

HUD-52578B PBV Statement of Family Responsibilities—Edited to comply with recent executive orders and address typos and conform with changes made in the HOTMA Voucher Final Rule, including those changes to 983.252 (PHA information for selected family), 983.261 (family right to move).

New HUD Forms

The following new forms were created pursuant to the HOTMA Voucher Final Rule published on May 7, 2024 (89 FR 38224): Tenancy Addendum, following termination of Project-Based Voucher assistance to a project, PHA-owned Agreement Certification, Tenant-based Assistance, PHA-owned Agreement Certification Part 1 and Part 2, PBV PHA-owned Certification for Existing Housing Part 1 & 2, PBV PHA-owned Certification New Construction or Rehabilitated Housing Part 1 and Part 2, PBV Rehabilitated Housing HAP Contract Rider PBV Rehabilitated Housing PHA-owned Certification Rider.

Tenancy Addendum following termination of Project-Based Voucher assistance to a project. To conform to the HOTMA Voucher Final Rule, this form is a separate tenancy addendum that applies when a family chooses to remain in the unit following the termination of a project-based HAP contract.

PHA-owned Agreement Certification, Tenant-based Assistance—The HOTMA Voucher Final Rule establishes regulations permitting a PHA to execute a HUD-prescribed certification in lieu of a HAP Contract for a PHA-owned unit. The final rule provides that the PHA-owned certification obligates the PHA, as the owner, to all of the requirements of the HAP contract (24 CFR 982.451(c)) (to become effective upon publication of this form per 89 FR 38224 (May 7, 2024).

PHA-owned Agreement Certification Part 1 and Part 2—The HOTMA Voucher Final Rule establishes regulations permitting a PHA to execute HUD-prescribed certifications in lieu of an AHAP. The PHA-owned agreement certification serves as the equivalent of the AHAP, and subjects the PHA, as owner, to all of the requirements of the AHAP contained in part 983. Where the PHA has elected to use the PHA-owned agreement certification, all references to the AHAP throughout part 983 must be interpreted to be references to the PHA-owned agreement certification. 24 CFR 983.154

PBV PHA-owned Certification for Existing Housing Part 1 & 2—The HOTMA Voucher Final Rule establishes regulations permitting a PHA to execute HUD-prescribed certifications in lieu of a HAP Contract. The PHA-owned certification serves as the equivalent of the HAP contract, and subjects the PHA, as owner, to all of the requirements of the HAP contract contained in parts 982 and 983. Where the PHA has elected to use the PHA-owned certification, all references to the HAP contract throughout parts 982 and 983 must be interpreted to be references to the PHA-owned certification. 24 CFR 983.204

PBV PHA-owned Certification New Construction or Rehabilitated Housing Part 1 and Part 2—The HOTMA Voucher Final Rule establishes regulations permitting a PHA to execute HUD-prescribed certifications in lieu of a HAP Contract. The PHA-owned certification serves as the equivalent of the HAP contract, and subjects the PHA, as owner, to all of the requirements of the HAP contract contained in parts 982 and 983. Where the PHA has elected to use the PHA-owned certification, all references to the HAP contract throughout parts 982 and 983 must be interpreted to be references to the PHA-owned certification. 24 CFR 983.204

PBV Rehabilitated Housing HAP Contract Rider—The HOTMA Voucher Final Rule establishes regulations permitting a PHA to execute a HAP contract, subject to a rider, for rehabilitated housing before the rehabilitation is complete. 24 CFR 983.157

PBV Rehabilitated Housing PHA-owned Certification Rider—The HOTMA Voucher Final Rule establishes regulations permitting a PHA to execute a HUD-prescribed certification, subject to a rider, for rehabilitated housing before the rehabilitation is complete. 24 CFR 983.157

Respondents: State and Local Governments, Tribes and TDHEs, owners of rental housing.

Estimated Number of Respondents: 2,244 PHAs and Tribal HUD-VASH grantees.

Estimated Number of Responses: 8,848,209.

Frequency of Response: Varies by form.

Average Hours per Response: 1.15.

Total Estimated Burdens: 3,456,326.

Description | Number of respondents ¹ | Responses per respondent ² | Total annual responses | Hours per response | Total hours
Funding Application (HUD-52515) | 300 | 1 | 300 | 5.00 | 1,500.00
Application for Federal Assistance (SF-424) ³ | 300 | 1 | 300 | 0.75 | 225.00
Applicant/Recipient Disclosure/Update Report (HUD-2880) ⁴ | 300 | 1 | 300 | 0.08 | 24.00
Acknowledgement of Application Receipt (HUD-2993) ⁵ | 300 | 1 | 300 | 0.08 | 24.00
Certification of Consistency with the Consolidated Plan (HUD-2991) ⁶ | 300 | 1 | 300 | 0.08 | 24.00
Disclosure of Lobbying Activities (SF-LLL) ⁷ | 300 | 1 | 300 | 0.08 | 24.00
Tenant-Furnished Utilities (HUD-52667) | 2,192 | 350 | 767,200 | 0.25 | 191,800.00
Inspection Checklist (HUD-52580) | 2,192 | 950 | 2,082,400 | 0.50 | 1,041,200.00
Inspection Form (HUD-52580A) | 2,192 | 950 | 2,082,400 | 0.50 | 1,041,200.00
Request for Tenancy Approval (HUD-52517) | 2,192 | 55 | 120,560 | 0.50 | 60,280.00
Notice of Unit Approval/Denial | 2,192 | 55 | 120,560 | 0.50 | 60,280.00
Voucher (HUD-52646) | 2,192 | 60 | 131,520 | 0.05 | 6,576.00
Applications (Pre-Application, Application for Continued Occupancy, Interim Change) ⁸ | 2,192 | 1,400 | ⁹ 3,068,800 | 0.25 | 767,200.00
Information Packet | 2,192 | 55 | 120,560 | 1.00 | 120,560.00
PHA Information to Owner about tenant | 2,192 | 55 | 120,560 | 0.50 | 60,280.00
PHA notification to HUD of insufficient funds for portability moves | 400 | 1 | 400 | 0.50 | 200.00
Portability Information (HUD-52665) | 2,192 | 10 | 21,920 | 0.50 | 10,960.00
HAP Contracts (HUD-52641, 52641-A, 52641x, 52642) | 2,192 | 65 | 142,480 | 0.50 | 71,240.00
PHA-Owned Certification | 300 | 10 | 3,000 | 0.50 | 1,500.00
Statement of Homeowner Obligations (HUD-52649) | 100 | 10 | 1,000 | 0.25 | 250.00
Homeownership: Required Contract of Sale Provisions | 100 | 10 | 1,000 | 0.25 | 250.00
PHA PBV Public Notice of RFP | 268 | 1 | 268 | 1.00 | 268.00
PHA PBV Notice of Proposal or Project Selection | 268 | 1 | 268 | 0.50 | 134.00
PBV Agreement to enter into a HAP Contract (HUD-52531A and B) | 95 | 1 | 95 | 0.50 | 47.50
PBV NC/R HAP Contract (HUD-52530A, Part 1 & 2) | 242 | 1 | 242 | 1.00 | 242.00
PBV Existing HAP Contract (HUD-52530B, Part 1 & 2) | 242 | 1 | 242 | 1.00 | 242.00
PBV Tenancy Addendum (HUD-52530C) | 871 | 33 | 28,743 | 0.25 | 7,185.75
PHA-owned Agreement Certification (HUD-xxxxx, Part 1 & 2) | 10 | 1 | 10 | 0.50 | 5.00
PBV PHA-owned Certification for Existing Housing (HUD-xxxxx, Part 1 & 2) | 26 | 1 | 26 | 1.00 | 26.00
PBV PHA-owned Certification for NC/R Housing (HUD-xxxxx, Part 1 & 2) | 26 | 1 | 26 | 1.00 | 26.00
PBV Rehabilitated Housing HAP Contract Rider (HUD-xxxxx) | 26 | 1 | 26 | 0.50 | 13.00
PBV Rehabilitated Housing PHA-owned Certification Rider (HUD-xxxxx) | 3 | 1 | 3 | 0.50 | 1.50
PBV Statement of Family Responsibilities (HUD-52578B) | 871 | 33 | 28,743 | 0.25 | 7,185.75
Waikoloa Maneuver Area public notice (HUD-50164) | 100 | 1 | 100 | 0.30 | 30.00
PHA Notice of Intent to Project-Base Vouchers | 292 | 1 | 292 | 1.00 | 292.00
PHA Request to HUD for Approval to Terminate PBV HAP Contract | 20 | 1 | 20 | 1.00 | 20.00
Owner Notice to Terminate PBV HAP Contract | 27 | 30 | 810 | 0.25 | 202.50
Legal Opinion that PHA's Unit/Project is No Longer PHA-owned | 45 | 1 | 45 | 1.00 | 45.00
Notification of Ownership if Unit/Project is PHA-owned | 150 | 1 | 150 | 1.00 | 150.00
Joint PHA/Independent Entity Certification Regarding No Legal, Financial, Other Ties | 150 | 1 | 150 | 0.50 | 75.00
Certification Regarding Previously Approved Independent Entity | 180 | 1 | 180 | 0.50 | 90.00
Notice of Determination of Rent Reasonableness | 150 | 3 | 450 | 2.00 | 900.00
Review of PHA's PBV Selection Process | 90 | 2 | 180 | 3.00 | 540.00
FUP Statement of Need | 300 | 1 | 300 | 2.00 | 600.00
FUP Memorandum of Understanding | 300 | 1 | 300 | 5.00 | 1,500.00
FUP Evidence of a self-sufficiency program | 175 | 1 | 175 | 0.50 | 87.50
HUD-VASH VAMC letter of support | 50 | 1 | 50 | 5.00 | 250.00
HUD-VASH signed formal agreement | 50 | 1 | 50 | 6.00 | 300.00
HUD-VASH boundary description | 50 | 1 | 50 | 0.50 | 25.00
Tribal HUD-VASH application materials | 29 | 1 | 29 | 8.00 | 232.00
Tribal HUD-VASH Leasing Performance Report (HUD-5980) | 26 | 1 | 26 | 0.50 | 13.00
Totals | 2,244 | 4,168 | ¹⁰ 8,848,209 | 58.67 | 3,456,325.50
¹ This column represents number of PHA respondents.
² This column represents the number of responses per PHA. For example, for the HUD-52517 this means that 2,192 PHAs are expected to have an average of 950 forms submitted on behalf of families totaling 2,082,400 forms submitted nationwide annually.
³ This form is included in another PRA (OMB 2501-0032). The additional burden hours for the voucher program are included in this application (4040-0004).
⁴ This form is included in another PRA (OMB 2501-0032). The additional burden hours for the voucher program are included in this application (2510-0011).
⁵ This form is included in another PRA (OMB 2501-0032). The additional burden hours for the voucher program are included in this application (2577-0259).
⁶ This form is included in another PRA (OMB 2501-0032). The additional burden hours for the voucher program are included in this application (2506-0112).
⁷ This form is included in another PRA (OMB 0348-0046). HUD will submit a Request for Common Form through the Regulatory Information Service Center (RISC) RISC/OIRA Combined Information System (ROCIS). The burden hours listed here are not included in the overall burden for this collection. They are presented here to give an accurate picture of the PHA's effort involved in responding to NOFOs.
⁸ The burden calculated here reflects the burden associated with the federal requirements of this information collection. The number of respondents reflects the total number of federal grantees (PHAs) and not the number of individual respondents submitting pre-application, application, and interim changes associated with the HCV process. As indicated in this row, HUD estimates that the time it takes a respondent to provide the federally required information associated with the HCV application, pre-application, or interim change is, on average, 15 minutes or 0.25 hours. The actual time to complete a form may be greater reflecting additional information collection requirements or submission processes that are not associated with federal requirements.
⁹ The number of Total Annual Responses has been reduced to reflect the expected decrease in Interim Change Forms needed as a result of the Housing Opportunity Through Modernization Act of 2015 (HOTMA) sections 102 and 104 as detailed in the final rule published in Federal Register Notice 88 FR 9600 on February 13, 2023. The Regulatory Impact Analysis for the HOTMA Final Rule (FR-6057-F-03) estimated that there would be a decrease of 120,000 fewer interims for Public Housing and the Housing Choice Voucher Program combined. The HCV Program consists of about two thirds of the total combined households, so HUD estimates that interim reexaminations for the HCV program will decrease by about 81,120 annually.
¹⁰ This represents an overall decrease in burden since 2023 due to changes related to HOTMA. HUD discovered an error in the 2023 Form-83i estimate of burden HUD erroneously reported its overall burden in 2023 as 5,762,595 hours but it should have been 8,831,401 hours.

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

C. Authority

Section 2 of the Paperwork Reduction Act of 1995, 44 U.S.C. 3507.

Laura Kunkel,
Acting Director, Office of Policy, Programs, and Legislative Initiatives.

[FR Doc. 2026-02955 Filed 2-12-26; 8:45 am]

BILLING CODE 4210-67-P